DEPARTMENT OF COMMERCE

International Trade Administration

[A-122-814]

Pure Magnesium From Canada: Notice of Rescission of Antidumping Duty Administrative Review

AGENCY: Import Administration, International Trade Administration, Department of Commerce.

SUMMARY: In response to a request from the petitioner in this proceeding, the Department of Commerce (“the Department”) initiated an administrative review of the antidumping duty order on pure magnesium from Canada. Due to the recent completion of NAFTA panel review of the final remand redetermination made by the Department concerning the full sunset review of that order, the order was revoked effective August 1, 2000. Therefore, we are rescinding the ongoing administrative review covering the period August 1, 2003, through July 31, 2004.

EFFECTIVE DATES: February 2, 2005.

FOR FURTHER INFORMATION CONTACT: Scott Holland, AD/CVD Operations, Office 1, Import Administration, International Trade Administration, U.S. Department of Commerce, 14th Street and Constitution Avenue, NW., Washington DC 20230; telephone (202) 482-1279.

SUPPLEMENTARY INFORMATION:

Background

On August 31, 1992, the Department published in the Federal Register (57 FR 39390) an antidumping duty order on pure magnesium from Canada. On August 3, 2004, the Department published a notice in the Federal Register of the opportunity for interested parties to request an administrative review of the antidumping duty order on pure magnesium from Canada. See Antidumping or Countervailing Duty Order, Finding or Suspended Investigation; Opportunity to Request Administrative Review, 69 FR 46496 (August 3, 2004). On August 30, 2004, and in accordance with 19 CFR 351.213(b)(1) of the Department's regulations, the Department received a timely request for review of the antidumping duty order from U.S. Magnesium LLC, an interested party in these proceedings, on imports of pure magnesium from Canada by Norsk Hydro Canada Inc., and Magnola Metallurgy Inc. (collectively, “the respondents”).

We published a notice of initiation of the antidumping duty administrative review on September 22, 2004, with respect to the respondents in accordance with 19 CFR 351.221(b)(1) of the Department's regulations. See Initiation of Antidumping and Countervailing Duty Administrative Reviews and Request for Revocation in Part, 69 FR 56745 (September 22, 2004). The period of review is August 1, 2003, through July 31, 2004.

On November 19, 2004, the NAFTA Secretariat published in the Federal Register a notice of completion of panel review of the final remand redetermination made by the Department concerning the full sunset review of the antidumping duty order on pure magnesium from Canada. See North American Free-Trade Agreement, Article 1904 NAFTA Panel Reviews; Completion of Panel Review, 69 FR 67703 (November 19, 2004).

On December 7, 2004, pursuant to the panel's decision, the Department published a notice in the Federal Register of amended final results of its full sunset review and revocation of the antidumping duty order on pure magnesium from Canada effective August 1, 2000, the effective date of the original full sunset review, in accordance with 516A(g)(5)(C) of the Tariff Act of 1930, as amended, (“the Act”). See Pure Magnesium from Canada; Notice of NAFTA Binational Panel's Final Decision, Amended Final Results of Full Sunset Review and Revocation of Antidumping Duty Order, 69 FR 70649 (December 7, 2004).

Rescission of Antidumping Administrative Review

As the result of the revocation of the antidumping duty order effective August 1, 2000, we are hereby rescinding the instant administrative review on pure magnesium from Canada, the only ongoing review of this order.

Instructions to U.S. Customs and Border Protection

Pursuant to sections 751(d)(2) and 751(d)(3) of the Act, and 351.222 of the Department's regulations, the Department has instructed U.S. Customs and Border Protection (“CBP”) to terminate the suspension of liquidation and to liquidate, without regard to antidumping duties, all unliquidated entries of pure magnesium from Canada entered, or withdrawn from warehouse, for consumption on or after August 1, 2000, the effective date of the revocation of the order. The Department has further instructed CBP to refund with interest any estimated duties collected with respect to unliquidated entries of pure magnesium entered, or withdrawn from warehouse, for consumption on or after August 1, 2000, in accordance with section 778 of the Act.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Act, as amended and 19 CFR 351.213(d)(4).

Dated: January 26, 2005.
Joseph A. Spetrini,
Acting Assistant Secretary for Import Administration.

[FR Doc. 05-1957 Filed 2-1-05; 8:45 am]

BILLING CODE 3510-DS-P